DEPARTMENT OF COMMERCE

National Oceanic and Atmospheric Administration

[I.D. 031606A]

Notice of Intent to Prepare an Environmental Impact Statement for the Proposed Issuance of an Incidental Take Permit; Extension of Comment Period

AGENCY: National Marine Fisheries Service (NMFS), National Oceanic and Atmospheric Administration (NOAA), Commerce.

ACTION: Notice; scoping meetings; extension of comment period.

SUMMARY: This document contains an extension to the comment period for a notice of intent to prepare an environmental impact statement for the proposed issuance of an incidental take and scoping meetings. The original notice was published May 17, 2006.

DATES: We must receive written comments on alternatives and issues to be addressed in the EIS by July 14, 2006. We will hold public scoping meetings on:

Tuesday, June 6, 2006, at East Portland Community Center, 740 SE 106th Avenue, Portland, OR from 5 p.m. to 7 p.m., and on Wednesday, June 7, 2006, at Portland City Hall, Lovejoy Room, 1221 SW 4th Avenue, Portland, OR from 5 p.m. to 7 p.m.. We will accept oral and written comments at these meetings.

FOR FURTHER INFORMATION CONTACT: Joe Zisa, USFWS, (360) 231-6961 or Ben Meyer, (NMFS), (503) 230-5425.

SUPPLEMENTARY INFORMATION: On May 17, 2006 (71 FR 28667), NMFS published a notice of scoping meetings. This document is extending the comment period through July 14, 2006. All other information contained in the document published May 17, 2006 has not been changed.

Dated: May 19, 2006.
Angela Somma,
Chief, Endangered Species Division Office of Protected Resources, National Marine Fisheries Service.

[FR Doc. E6-8048 Filed 5-24-06; 8:45 am]

BILLING CODE 3510-22-S